DEPARTMENT OF STATE

[Public Notice 3261]

Bureau of Educational and Cultural Affairs; Notice: Extension of Deadline for South Pacific Scholarship Program RFP

SUMMARY: The deadline for the South Pacific Scholarship RFP has been extended from April 7, 2000 to April 24, 2000. The RFP was originally published as Public Notice 3242 in the Federal Register on March 9, 2000 (65 FR 12609).

For further information, please contact Marianne Craven at mcraven@usia.gov 202/619-6409 (tel), or 202/205-2452 (fax).

Dated: March 15, 2000.
Evelyn S. Lieberman,
Under Secretary for Public Diplomacy and Public Affairs, Department of State.

[FR Doc. 00-7106 Filed 3-22-00; 8:45 am]

BILLING CODE 4710-11-P